NATIONAL AERONAUTICS AND SPACE ADMINISTRATION

[Notice 13-019]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: March 1, 2013.

FOR FURTHER INFORMATION CONTACT: Randy Heald, Patent Counsel, Kennedy Space Center, Mail Code CC-A, Kennedy Space Center, FL 32899; telephone (321) 867-7214; fax (321) 867-1817.

NASA Case No.: KSC-13592: pH-Sensitive Microparticles with Matrix-Dispersed Active Agent;

NASA Case No.: KSC-13636: Incorporation of Chemochromic Pigment into a Variety of Articles as an Indicator for the Presence of Hypergolic Fuels;

NASA Case No.: KSC-13088-CON: Chemochromic Detector for Sensing Gas

NASA Case No.: KSC-13088-CON: Chemochromic Detector for Sensing Gas Leakage and Process for Producing Same;

NASA Case No.: KSC-13088-DIV: Chemochromic Detector for Sensing Gas Leakage and Process for Producing Same.

Sumara M. Thompson-King,
Deputy General Counsel.

[FR Doc. 2013-04804 Filed 2-28-13; 8:45 am]

BILLING CODE 7510-13-P